ENVIRONMENTAL PROTECTION AGENCY

[EPA-HQ-OPP-2007-1021; FRL-8354-7]

Flutolanil and Its Metabolites; Withdrawal of Tolerance Petition

AGENCY: Environmental Protection Agency (EPA).

ACTION: Notice.

SUMMARY: The Agency is withdrawing pesticide petition (PP 6F7070) at the request of the petitioner, Nichino America, Inc., because the data submitted to the Agency do not support the proposed indirect or inadvertent tolerances for flutolanil on corn and cotton.

FOR FURTHER INFORMATION CONTACT: Lisa Jones, Registration Division (7505P), Environmental Protection Agency, 1200 Pennsylvania Ave., NW., Washington, DC 20460-0001; telephone number: (703) 308-9424; fax number: (703) 308-5320; e-mail address: jones.lisa@epa.gov.

SUPPLEMENTARY INFORMATION:

I. General Information

A. Does this Action Apply to Me?

Although this action only applies to the registrant in question, it is directed to the public in general. Since various individuals or entities may be interested, the Agency has not attempted to describe all the specific entities that may be interested in this action. If you have any questions regarding this action, please consult the person listed under FOR FURTHER INFORMATION CONTACT.

B. How Can I Get Copies of this Document and Other Related Information?

1. Docket. EPA has established a docket for this action under docket identification (ID) number EPA-HQ-OPP-2007-1021. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

III. What Action is the Agency Taking?

EPA is announcing that Nichino America, Inc., 4550 New Linden Hill Road, Suite 501, Wilmington, DE 19808, has withdrawn its application to establish inadvertent or indirect tolerances for the fungicide flutolanil and its metabolites in or on the food commodities corn and cotton, as provided for in section 3(c)(7)(C) of the Federal Insecticide, Fungicide, and Rodenticide Act (FIFRA), as amended by the Food Quality Protection Act of 1996 (FQPA).

EPA issued a notice in the Federal Register of January 23, 2008 (73 FR 3967) (FRL-8345-7), which announced Nichino America, Inc.'s submission of pesticide petition (PP 6F7070). This petition requested that EPA amend 40 CFR 180.484 by establishing increased tolerances for residues of the fungicide flutolanil [N-(3-(1-methylethoxy)phenyl)-2-(trifluoromethyl) benzamide] and its metabolite, M-4, desisopropylflutolanil [N-3(3-hydroxyphenyl)2-(trifluromethyl) benzamide] for inadvertent or indirect tolerances in or on the food commodities corn, field, forage at 0.30 parts per million (ppm); corn, field, grain at 0.20 ppm; corn field, stover at 0.30 ppm; and cotton, undelinted seed at 0.20 ppm.

List of Subjects

Environmental protection, Pesticides and pests.

Dated: March 13, 2008.
Lois Rossi,
Director, Registration Division, Office of Pesticide Programs.

[FR Doc. E8-6203 Filed 3-25-08; 8:45 am]

BILLING CODE 6560-50-S